DEPARTMENT OF THE TREASURY

Office of Foreign Assets Control

Notice of OFAC Sanctions Action

AGENCY: Office of Foreign Assets Control, Treasury.

ACTION: Notice.

SUMMARY: The Treasury Department's Office of Foreign Assets Control (OFAC) is updating the identifying information on its list of Specially Designated Nationals and Blocked Persons (SDN List) for one individual whose property and interests in property are blocked pursuant to Executive Order 13382.

DATES: OFAC's actions described in this notice took effect on May 10, 2019.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The SDN List and additional information concerning OFAC sanctions programs are available on OFAC's website (https://www.treasury.gov/ofac).

Notice of OFAC Action(s)

On May 10, 2019, OFAC published the following revised information for the following individual on OFAC's SDN List whose property and interests in property are blocked pursuant to Executive Order 13382, “Blocking Property of Weapons of Mass Destruction Proliferators and Their Supporters”:

BEURKLIAN, Anni (a.k.a. AJAKA, Anni), Lebanon; Bsalim, Majzoub St. #701, Bldg. #254, 3rd floor, Beirut, Lebanon; DOB 17 May 1969; nationality Lebanon; citizen United States (individual) [NPWMD] (Linked To: KATRANGI, Amir).

Dated: May 13, 2019.
Andrea M. Gacki,
Director, Office of Foreign Assets Control.

[FR Doc. 2019-10655 Filed 5-21-19; 8:45 am]

BILLING CODE 4810-AL-P